ENVIRONMENTAL PROTECTION AGENCY

[FRL-8969-6]

Cross-Media Electronic Reporting Rule State Authorized Program Revision/Modification Approvals: State of Minnesota

AGENCY: Environmental Protection Agency (EPA).

ACTION: Notice.

SUMMARY: This notice announces EPA's approval, under regulations for Cross-Media Electronic Reporting, of the State of Minnesota's request to revise/modify programs to allow electronic reporting for certain of their EPA-authorized programs under title 40 of the CFR.

DATES: EPA's approval is effective on October 19, 2009.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR, requires that State, tribal or local government agencies that receive, or wish to begin receiving, electronic reports under their EPA-authorized programs must apply to EPA for a revision or modification of those programs and get EPA approval. Subpart D provides standards for such approvals based on consideration of the electronic document receiving systems that the State, tribe, or local government will use to implement the electronic reporting. Additionally, in § 3.1000(b) through (e) of 40 CFR part 3, subpart D provides special procedures for program revisions and modifications to allow electronic reporting, to be used at the option of the State, tribe or local government in place of procedures available under existing program-specific authorization regulations. An application submitted under the subpart D procedures must show that the State, tribe or local government has sufficient legal authority to implement the electronic reporting components of its authorized programs covered by the application and will use electronic document receiving systems that meet the applicable subpart D requirements.

On December 23, 2008, the State of Minnesota Pollution Control Agency (MPCA) submitted an application for its CROMERR Online Services (MPCA-CROMERR) electronic document receiving system for revision or modification of multiple EPA-authorized programs under title 40 CFR. EPA reviewed MPCA's request to revise/modify their EPA-authorized programs and, based on this review, determined the application met the standards for approval of authorized program revisions/modifications set out in 40 CFR part 3, subpart D. In accordance with 40 CFR 3.1000(d), this notice of EPA's decision to approve Minnesota's request for revision/modification to certain of their authorized programs is being published in the Federal Register.

Specifically, EPA has approved MPCA's request for revisions/modifications to the following of their authorized programs to allow electronic reporting under 40 CFR parts 51, 60-61, 70-71, 122-123, 262, 264-265, and 403:

• Part 52—Approval and Promulgation of Implementation Plans;

• Part 60—Standards of Performance for New Stationary Sources;

• Part 61—National Emission Standard for Hazardous Air Pollutants;

• Part 70—State Operating Permit Programs;

• Part 123—State Program Requirements;

• Part 271—Requirements for Authorization of State Hazardous Waste Programs; and

• Part 403—General Pretreatment Regulations for Existing and New Sources of Pollution.

MPCA was notified of EPA's determination to approve its application with respect to the authorized programs listed above.

Dated: October 8, 2009.
Lisa Schlosser,
Director, Office of Information Collection.

[FR Doc. E9-25124 Filed 10-16-09; 8:45 am]

BILLING CODE 6560-50-P